OFFICE OF PERSONNEL MANAGEMENT

Excepted Service

AGENCY: Office of Personnel Management (OPM).

ACTION: Notice.

SUMMARY: This notice identifies Schedule A, B, and C appointing authorities applicable to a single agency that were established or revoked from June 1, 2021 to June 30, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during June 2021.

Schedule B

No Schedule B Authorities to report during June 2021.

Schedule C

The following Schedule C appointing authorities were approved during June 2021.

Agency name | Organization name | Position title | Authorization No. | Effective date
DEPARTMENT OF AGRICULTURE | Office of the Under Secretary for Food, Nutrition and Consumer Services | Confidential Assistant | DA210120 | 06/11/2021
| Office of Communications Office of Rural Development | Speechwriter Press Assistant Special Assistant | DA210122 DA210123 DA210124 | 06/23/2021 06/23/2021 06/23/2021
APPALACHIAN REGIONAL COMMISSION | Appalachian Regional Commission | Executive Assistant | AP210001 | 06/30/2021
DEPARTMENT OF COMMERCE | Office of National Telecommunications and Information Administration | Senior Advisor | DC210145 | 06/03/2021
| Office of Advance, Scheduling and Protocol | Deputy Director of Advance | DC210146 | 06/11/2021
| Office of Legislative and Intergovernmental Affairs | Special Assistant | DC210155 | 06/23/2021
| Office of Policy and Strategic Planning | Senior Policy Advisor | DC210157 | 06/23/2021
DEPARTMENT OF DEFENSE | Office of the Assistant Secretary of Defense (Legislative Affairs) | Special Assistant | DD210236 | 06/08/2021
| Office of the Assistant to the Secretary of Defense (Public Affairs) | Deputy Director of Speechwriting | DD210241 | 06/17/2021
| Office of the Department of Defense Chief Information Officer | Director, Chief Information Officer Action Group | DD210239 | 06/08/2021
| Office of the Under Secretary of Defense (Policy) | Chief of Staff for Assistant Secretary of Defense (Special Operations/Low-Intensity Conflict) Special Assistant | DD210237 DD210240 | 06/08/2021 06/13/2021
DEPARTMENT OF EDUCATION | Office of Career Technical and Adult Education | Special Assistant | DB210108 | 06/02/2021
| Office of Communications and Outreach | Managing Writer Chief of Staff | DB210098 DB210103 | 06/01/2021 06/08/2021
| Office of Elementary and Secondary Education | Special Assistant | DB210104 | 06/07/2021
| Office of Postsecondary Education | Senior Advisor | DB210106 | 06/07/2021
| Office of the General Counsel | Senior Counsel | DB210112 | 06/25/2021
| Office of the Secretary | Senior Advisor Senior Advisor | DB210105 DB210111 | 06/07/2021 06/15/2021
DEPARTMENT OF ENERGY | Advanced Research Projects Agency—Energy | Special Assistant | DE210108 | 06/03/2021
| Office of the Assistant Secretary for Energy Efficiency and Renewable Energy | Senior Advisor Chief of Staff | DE210113 DE210119 | 06/03/2021 06/03/2021
| Office of the Assistant Secretary for Fossil Energy | Chief of Staff | DE210105 | 06/03/2021
| Office of the General Counsel | Legal Advisor | DE210104 | 06/03/2021
| Office of the Deputy Secretary | Special Assistant | DE210125 | 06/03/2021
ENVIRONMENTAL PROTECTION AGENCY | Office of Public Engagement and Environmental Education | Deputy Associate Administrator for Public Engagement and Environmental Education | EP210093 | 06/08/2021
| Office of the Assistant Administrator for Chemical Safety and Pollution Prevention | Deputy Assistant Administrator for Pesticide Programs | EP210091 | 06/07/2021
| Office of the Assistant Administrator for Water | Senior Advisor | EP210092 | 06/08/2021
| Office of the General Counsel | Attorney-Advisor (General) | EP210094 | 06/08/2021
GENERAL SERVICES ADMINISTRATION | Office of Strategic Communication | Press Secretary | GS210036 | 06/16/2021
DEPARTMENT OF HEALTH AND HUMAN SERVICES | Centers for Medicare and Medicaid Services | Policy Advisor | DH210195 | 06/22/2021
| Office for Civil Rights | Executive Director, White House Initiative on Asian Americans, Native Hawaiians, and Pacific Islanders | DH210193 | 06/22/2021
|  | Special Assistant | DH210197 | 06/22/2021
| Office of the Secretary | Senior Policy Advisor | DH210196 | 06/22/2021
DEPARTMENT OF HOMELAND SECURITY | Office of Partnership and Engagement | Intergovernmental Affairs Coordinator | DM210370 | 06/11/2021
| Office of Strategy, Policy, and Plans | Special Assistant to the Assistant Secretary | DM210386 | 06/17/2021
| Office of the Secretary | Senior Advance Officer Deputy Director of Scheduling and Advance | DM210358 DM210385 | 06/07/2021 06/25/2021
| Office of United States Customs and Border Protection | Deputy Chief of Staff (Programs) | DM210357 | 06/03/2021
DEPARTMENT OF HOUSING AND URBAN DEVELOPMENT | Office of Community Planning and Development | Special Assistant | DU210080 | 06/03/2021
| Office of Congressional and Intergovernmental Relations | Congressional Relations Specialist | DU210085 | 06/17/2021
| Office of Public Affairs | Director of Strategic Communications | DU210082 | 06/03/2021
|  | Assistant Press Secretary | DU210084 | 06/22/2021
| Office of the Administration | Special Assistant | DU210081 | 06/03/2021
| Office of the Secretary | Senior Advisor | DU210086 | 06/29/2021
DEPARTMENT OF THE INTERIOR | Secretary's Immediate Office | Deputy Director, Office of Scheduling and Advance | DI210121 | 06/01/2021
DEPARTMENT OF JUSTICE | National Security Division | Senior Counsel | DJ210126 | 06/03/2021
DEPARTMENT OF LABOR | Occupational Safety and Health Administration | Special Assistant | DL210093 | 06/03/2021
| Office of Congressional and Intergovernmental Affairs | Senior Legislative Officer | DL210099 | 06/15/2021
| Office of Labor-Management Standards | Senior Advisor | DL210101 | 06/23/2021
| Office of the Secretary | Deputy Director of Scheduling and Advance | DL210097 | 06/17/2021
|  | Executive Secretary | DL210096 | 06/23/2021
| Wage and Hour Division | Special Assistant | DL210095 | 06/16/2021
NATIONAL AERONAUTICS AND SPACE ADMINISTRATION | Office of Communications | Deputy Press Secretary Press Secretary | NN210040 NN210042 | 06/09/2021 06/22/2021
| Office of the Administrator | Special Assistant | NN210041 | 06/17/2021
|  | Special Assistant for Projects and Initiatives | NN210043 | 06/29/2021
OFFICE OF MANAGEMENT AND BUDGET | Office of E-Government and Information Technology | Confidential Assistant Senior Advisor for Delivery (United States Digital Service) | BO210072 BO210074 | 06/07/2021 06/11/2021
SMALL BUSINESS ADMINISTRATION | Office of Congressional and Legislative Affairs | Deputy Associate Administrator, (House) | SB210038 | 06/29/2021
| Office of Government Contracting and Business Development | Senior Advisor Special Assistant | SB210039 SB210044 | 06/11/2021 06/30/2021
| Office of Investment and Innovation | Senior Advisor Policy Advisor | SB210043 SB210033 | 06/25/2021 06/03/2021
| Office of the Administrator | Confidential Assistant | SB210040 | 06/23/2021
|  | Special Assistant | SB210042 | 06/23/2021
| Office of the General Counsel | Deputy General Counsel | SB210037 | 06/07/2021
DEPARTMENT OF STATE | Bureau of Global Public Affairs | Spokesperson | DS210248 | 06/24/2021
| Bureau of Legislative Affairs | Legislative Management Officer | DS210245 | 06/24/2021
| Office of the Chief of Protocol | Senior Protocol Officer (Visits) | DS210247 | 06/24/2021
|  | Senior Protocol Officer (Ceremonials) | DS210249 | 06/24/2021
DEPARTMENT OF TRANSPORTATION | Office of Civil Rights Federal Motor Carrier Safety Administration | Senior Advisor Director of External Affairs | DT210085 DT210089 | 06/25/2021 06/25/2021
| Office of Public Affairs | Press Secretary | DT210092 | 06/25/2021
DEPARTMENT OF THE TREASURY | Secretary of the Treasury | Deputy Executive Secretary Deputy Director of Scheduling and Advance | DY210102 DY210107 | 06/01/2021 06/14/2021
|  | Director of Scheduling and Advance | DY210094 | 06/30/2021
DEPARTMENT OF VETERANS AFFAIRS | Office of the General Counsel | Special Assistant (Attorney) | DV210066 | 06/04/2021

The following Schedule C appointing authorities were revoked during June 2021.

Agency name | Organization name | Position title | Request No. | Vacate date
OFFICE OF MANAGEMENT AND BUDGET | Office of E-Government and Information Technology | Senior Advisor for Delivery (United States Digital Service) | BO210035 | 06/12/2021

Authority: 5 U.S.C. 3301 and 3302; E.O. 10577, 3 CFR, 1954-1958 Comp., p. 218.

Office of Personnel Management.
Alexys Stanley,
Regulatory Affairs Analyst.

[FR Doc. 2022-02642 Filed 2-8-22; 8:45 am]

BILLING CODE 6325-39-P